FEDERAL COMMUNICATIONS COMMISSION

[DA 11-50]

Consumer Advisory Committee

AGENCY: Federal Communications Commission.

ACTION: Notice; correction.

SUMMARY: The Federal Communications Commission published a document in the Federal Register on January 20, 2011 (76 FR 3633), announcing the rechartering of its Consumer Advisory Committee (hereinafter “the Committee”), and further requested applications for membership on the Committee. The Notice contained incorrect and/or omitted dates.

Correction

In the Federal Register of January 20, 2011, in FR Doc. 2011-1170, on page 3633, column 2, correct the DATES caption to read:

DATES: Applications should be received no later than 11:59 p.m. EST, February 11, 2011.

On page 3633, column 3, correct the first sentence of the SUPPLEMENTARY INFORMATION caption to read:

SUPPLEMENTARY INFORMATION: The rechartering of the Committee was announced by Public Notice dated and released January 11, 2011.

On page 3634, column 2, paragraph 2, correct the first sentence to read:

Applications should be received by the Commission no later than 11:59 p.m., EST, February 11, 2011.

FOR FURTHER INFORMATION CONTACT: Scott Marshall, Consumer and Governmental Affairs Bureau, 202-418-2809 (voice), 202-418-0179 (TTY), or e-mail scott.marshal@fcc.gov.

Federal Communications Commission.
Joel Gurin,
Chief, Consumer and Governmental Affairs Bureau.

[FR Doc. 2011-2402 Filed 2-2-11; 8:45 am]

BILLING CODE 6712-01-P